DEPARTEMENT OF DEFENSE

Department of the Army

Availability for Non-Exclusive, Exclusive, or Partially Exclusive Licensing of U.S. Patent Application Concerning Automated Method of Identifying and Archiving Nucleic Acid Sequences

Correction

In notice document 02-16375 beginning on page 43587 in the issue of Friday, June 28, 2002, make the following correction:

On page 43588, in the first column, under the heading FOR FURTHER INFORMATION CONTACT, in the third line, “(301) 619-7807” should read, “(301) 619-7808”.

[FR Doc. C2-16375 Filed 7-5-02; 8:45 am]

BILLING CODE 1505-01-D

DEPARTMENT OF TRANSPORTATION

Federal Aviation Administration

14 CFR Part 71

[Airspace Docket No. 02-ACE-3]

Amendment to Class E Airspace; Caruthersville, MO

Correction

In rule document 02-9406 beginning on page 19107 in the issue of Thursday, April 18, 2002, make the following correction:

§ 71.1 [Corrected]

On page 19108, in the second column, in §71.1, under the heading “ACE MO E5 Caruthersville, MO [REVISED]”, “(Lat. 36°10’30”N., long. 90°40’30”W.)” should read “(Lat. 36°10’30”N., long. 89°40’30”W.)”.

[FR Doc. C2-9406 Filed 7-5-02; 8:45 am]

BILLING CODE 1505-01-D

DEPARTMENT OF TRANSPORTATION

Federal Aviation Administration

14 CFR Part 39

[Docket No. 2002-NE-04-AD; Amendment 39-12754; AD 2002-10-08]

RIN 2120-AA64

Airworthiness Directives; General Electric Company CF6-80E1 Series Turbofan Engines

Correction

In rule document 02-12631 beginning on page 36090 in the issue of Thursday, May 23, 2002, make the following correction:

§39.13 [Corrected]

On page 36091, in the second column, in §39.13, under the heading “2002-10-08 General Electric Company:”, “Docket No. 2000-NE-04-AD.” should read “Docket No. 2002-NE-04-AD.”.

[FR Doc. C2-12631 Filed 7-5-02; 8:45 am]

BILLING CODE 1505-01-D